DEPARTMENT OF JUSTICE

Antitrust Division

Notice Pursuant to the National Cooperative Research and Production Act of 1993—Medical Technology Enterprise Consortium

Notice is hereby given that, on October 7, 2022, pursuant to Section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances. Specifically, A10 Systems LLC dba Airanaculus, Chelmsford, MA; Alira Health Boston LLC, Framingham, MA; Apogee Solutions, Inc., Chesapeake, VA; Articulate Labs, Dallas, TX; Aspen Medical USA, San Antonio, TX; Azture, Inc., La Jolla, CA; Brimrose Technology Corp., Sparks, MD; Conseqta Technology, Arlington, VA; Daxor Corp., Oak Ridge, TN; Decisive Point Group, Beacon, NY; Elite Performance & Learning Center, PS, Seattle, WA; Endoluxe, Inc., Dunwoody, GA; Fort Defiance Industries LLC, Loudon, TN; Geometric Data Analytics, Durham, NC; Georgia Tech Applied Research Corp., Atlanta, GA; Icarus Medical LLC, Charlottesville, VA; Ichor Sciences LLC, Nashville, TN; Inovio, Plymouth Meeting, PA; Jaw Joint Science Institute, Philadelphia, PA; Legacy US, Inc., Boise, ID; Linshom Medical, Inc., Ellicott City, MD; Modulated Imaging, Inc., Irvine, CA; Orthopedic Wellness Laboratories, Woodinville, WA; OrthoTreat Ltd., Tel Aviv Jaffa, ISR Ouraring, Inc., San Francisco, CA; Prohuman Technologies, Concord, NC; Tunnell Consulting, Inc., Bethesda, MD; UtopiaCompression Corp., Los Angeles, CA; and Weinberg Medical Physics, Inc., North Bethesda, MD have been added as parties to this venture.

Also, Leo Mora Therapy Services, PLLC, Killeen, TX, has withdrawn as a party to this venture.

No other changes have been made in either the membership or planned activity of the group research project. Membership in this group research project remains open, and MTEC intends to file additional written notifications disclosing all changes in membership.

On May 9, 2014, MTEC filed its original notification pursuant to Section 6(a) of the Act. The Department of Justice published a notice in the Federal Register pursuant to Section 6(b) of the Act on June 9, 2014 (79 FR 32999).

The last notification was filed with the Department on July 15, 2022. A notice was published in the Federal Register pursuant to Section 6(b) of the Act on September 13, 2022 (87 FR 56089).

Catherine Reilly,
Counsel for Civil Operations, Antitrust Division.

[FR Doc. 2022-24272 Filed 11-7-22; 8:45 am]

BILLING CODE P